DEPARTMENT OF COMMERCE

Foreign-Trade Zones Board

[B-75-2019]

Foreign-Trade Zone (FTZ) 277—Western Maricopa County, Arizona, Authorization of Production Activity, Ball Metal Beverage Container Corporation (Aluminum Cans and Briquettes), Goodyear, Arizona

On December 5, 2019, Ball Metal Beverage Container Corporation submitted a notification of proposed production activity to the FTZ Board for its facility within FTZ 277, in Goodyear, Arizona.

The notification was processed in accordance with the regulations of the FTZ Board (15 CFR part 400), including notice in the Federal Register inviting public comment (84 FR 69355-69356, December 18, 2019). On April 3, 2020, the applicant was notified of the FTZ Board's decision that no further review of the activity is warranted at this time. The production activity described in the notification was authorized, subject to the FTZ Act and the FTZ Board's regulations, including Section 400.14.

Dated: April 3, 2020.
Andrew McGilvray,
Executive Secretary.

[FR Doc. 2020-07394 Filed 4-7-20; 8:45 am]

BILLING CODE 3510-DS-P